GENERAL SERVICES ADMINISTRATION

[OMB Control No. 3090-0302; Docket 2016-0001; Sequence 2]

General Services Administration Acquisition Regulation; Information Collection; Modifications 552.238-81

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an information collection requirement regarding the Modifications clause.

DATES: Submit comments on or before: May 9, 2016.

FOR FURTHER INFORMATION CONTACT: Ms. Dana Munson, Procurement Analyst, General Services Acquisition Policy Division, GSA, 202-357-9652 or email dana.munson@gsa.gov.

ADDRESSES: Submit comments identified by Information Collection 3090-0302, Modifications, by any of the following methods:

• Regulations.gov: http://www.regulations.gov.

Submit comments via the Federal eRulemaking portal by inputting “Information Collection 3090-0302, Modifications,” under the heading “Enter Keyword or ID” and selecting “Search”. Select the link “Submit a Comment” that corresponds with “Information Collection 3090-0302, Modifications.” Follow the instructions provided at the “Submit a Comment” screen. Please include your name, company name (if any), and “Information Collection 3090-0302, Modifications,” on your attached document.

• Mail: General Services Administration, Regulatory Secretariat (MVCB), 1800 F Street NW., Washington, DC 20405. ATTN: Ms. Flowers/IC 3090-0302, Modifications.

Instructions: Please submit comments only and cite Information Collection 3090-0302, Modifications, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Purpose

The General Services Administration Acquisition Regulation (GSAR) clause 552.238-81 Modifications requires vendors to request a contract modification by submitting a request to the Contracting Officer for approval, except for electronic File updates. At a minimum, every request shall describe the proposed change(s) and provide the rationale for the requested change(s).

B. Annual Reporting Burden

Respondents: 19,500.

Responses per Respondent: 2.

Total Responses: 39,000.

Hours per Response: 5.

Total Burden Hours: 195,000.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals:

Requesters may obtain a copy of the information collection documents from the General Services Administration, Regulatory Secretariat Division (MVCB), 1800 F Street NW., Washington, DC 20405; telephone 202-501-4755. Please cite OMB Control No. 3090-0302, “Modifications” in all correspondence.

Jeffrey A. Koses,
Director, Office of Acquisition Policy, Office of Government-wide Policy.

[FR Doc. 2016-05392 Filed 3-9-16; 8:45 am]

BILLING CODE 6820-61-P